DEPARTMENT OF THE INTERIOR

Bureau of Land Management

[19X L1109AF LLUT980300 L12200000.PM0000-24-1A]

Notice of Public Meeting for the Utah Resource Advisory Council, Utah

AGENCY: Bureau of Land Management, Interior.

ACTION: Notice of public meeting.

SUMMARY: In accordance with the Federal Land Policy and Management Act, the Federal Advisory Committee Act, and the Federal Lands Recreation Enhancement Act, the U.S. Department of the Interior, Bureau of Land Management's (BLM) Utah Resource Advisory Council (RAC) will meet as indicated below.

DATES: The Utah RAC will hold a public meeting on June 17-18, 2019. The meeting will be held on June 17, 2019, from 12:00 p.m. to 4:00 p.m., and on June 18, 2019, from 8:00 a.m. to 12:00 p.m.

ADDRESSES: The meeting will be held at the Kanab High School, 59 E Cowboy Way, Kanab, Utah 84741. Written comments to address the RAC may be sent to the BLM Utah State Office, 440 West 200 South, Suite 500, Salt Lake City, Utah 84101, or via email to BLM_UT_External_Affairs@blm.gov with the subject line “Utah RAC Meeting.”

FOR FURTHER INFORMATION CONTACT: Lola Bird, Public Affairs Specialist, BLM Utah State Office, 440 West 200 South, Suite 500, Salt Lake City, Utah 84101; phone (801) 539-4033; or email lbird@blm.gov. Persons who use a telecommunications device for the deaf (TDD) may call the Federal Relay Service (FRS) at 1-800-877-8339 to leave a message or question for the above individual. The FRS is available 24 hours a day, seven days a week. Replies are provided during normal business hours.

SUPPLEMENTARY INFORMATION: Agenda topics will include selecting a new chairperson; BLM statewide updates and planning updates; and discussing recreation business plans for Cedar Mesa, Richfield Field Office, and Desolation Canyon. Final agenda will be posted online at https://www.blm.gov/get-involved/resource-advisory-council/near-you/utah/RAC.

The meeting is open to the public; however, transportation, lodging, and meals are the responsibility of the participating individuals. The public may address the RAC in person or submit a written statement on June 17, 2019, at 3:00 p.m., and June 18, 2019, at 9:45 a.m. Depending on the number of persons wishing to speak, and the time available, the time for individual comments may be limited. The BLM may also extend the comment period by 30 minutes. Written comments may also be sent to the BLM Utah State Office at the address listed in the ADDRESSES section of this Notice. All comments received will be provided to the Utah RAC. All comments received will be provided to the Utah RAC.

Before including your address, phone number, email address, or other personal identifying information in your comments, please be aware that your entire comment, including your personal identifying information, may be made publicly available at any time. While you can ask us in your comment to withhold your personal identifying information from public review, we cannot guarantee that we will be able to do so.

Detailed meeting minutes for the Utah RAC meetings will be maintained in the BLM Utah State Office and will be available for public inspection and reproduction during regular business hours within thirty (30) days following the meeting.

Authority: 43 CFR 1784.4-2.

Edwin L. Roberson,
State Director.

[FR Doc. 2019-10893 Filed 5-23-19; 8:45 am]

BILLING CODE 4310-DQ-P